FEDERAL HOUSING FINANCE BOARD

Sunshine Act Meeting, Announcing an Open Meeting of the Board

Time and Date: 10 a.m., Wednesday, February 13, 2002.

Place: Board Room, Second Floor, Federal Housing Finance Board, 1777 F Street, NW., Washington, DC 20006.

Status: The entire meeting will be open to the public.

Matters To Be Considered During Portions Open to the Public

• Final Rule: Rules of Practice and Procedure for New Enforcement Authorities

• Proposed Rule Amending the Definition of “Non-Mortgage Assets” for Purposes of the Leverage Limit Requirement of Section 966.3(a) of the Regulations

• Technical Corrections Amendment: All Finance Board Regulations

• Proposed Rule: Amendments to 12 CFR. 985.8(b)—Minimum Number of Scheduled Office of Finance Board meetings

• Resolution Establishing Dates for Board Consideration of the Capital Plans

CONTACT PERSON FOR MORE INFORMATION: Elaine L. Baker, Secretary to the Board, (202) 408-2837.

James L. Bothwell,
Managing Director.

[FR Doc. 02-3290 Filed 2-6-02; 4:10 pm]

BILLING CODE 6725-01-P